DEPARTMENT OF DEFENSE

Office of the Secretary

[Transmittal Nos. 12-27]

36(b)(1) Arms Sales Notification

AGENCY: Department of Defense, Defense Security Cooperation Agency.

ACTION: Notice.

SUMMARY: The Department of Defense is publishing the unclassified text of a section 36(b)(1) arms sales notification. This is published to fulfill the requirements of section 155 of Public Law 104-164 dated July 21, 1996.

FOR FURTHER INFORMATION CONTACT: Ms. B. English, DSCA/DBO/CFM, (703) 601-3740.

The following is a copy of a letter to the Speaker of the House of Representatives, Transmittals 12-27 with attached transmittal, policy justification, and Sensitivity of Technology.

Dated: May 29, 2012.
Aaron Siegel,
Alternate OSD Federal Register Liaison Officer, Department of Defense.

Transmittal No. 12-27

Notice of Proposed Issuance of Letter of Offer Pursuant to Section 36(b)(1) of the Arms Export Control Act, as Amended

(i) Prospective Purchaser: Commonwealth of Australia

(ii) Total Estimated Value:

Major Defense Equipment * | $1.000 billion.
Other | .700 billion.
Total | 1.700 billion.
* as defined in Section 47(6) of the Arms Export Control Act.

(iii) Description and Quantity or Quantities of Articles or Services under Consideration for Purchase: EA-18G Modification Kits to convert 12 F/A-18F aircraft to G configuration, 34 AN/ALQ-99F(V) Tactical Jamming System Pods, 22 CN-1717/A Interference Cancellation Systems (INCANS), 22 R-2674(C)/A Joint Tactical Terminal Receiver (JTTR) Systems, 30 LAU-118 Guided Missile Launchers, Command Launch Computer (CLC) for High Speed Anti-Radiation Missile (HARM) and Advanced Anti-Radiation Guided Missile (AARGM), spare and repair parts, support and test equipment, publications and technical documentation, and training equipment, U.S. Government (USG) and contractor engineering, technical and logistics support services, and other related elements of logistical and program support.

(iv) Military Department: Navy (LEN)

(v) Prior Related Cases, if any: FMS Case SAF-$2.2B-02May07

(vi) Sales Commission, Fee, etc., Paid, Offered, or Agreed to be Paid: None

(vii) Sensitivity of Technology Contained in the Defense Article or Defense Services

Proposed to be Sold: See Attached Annex

(viii) Date Report Delivered to Congress: 22 May 2012

Policy Justification

Australia—EA-18G Airborne Electronic Attack (AEA) Aircraft Modification Kits

The Government of Australia has requested a possible sale of 12 EA-18G Modification Kits to convert F/A-18F aircrafts to G configuration, (34) AN/ALQ-99F(V) Tactical Jamming System Pods, (22) CN-1717/A Interference Cancellation Systems (INCANS), (22) R-2674(C)/A Joint Tactical Terminal Receiver (JTTR) Systems, (30) LAU-118 Guided Missile Launchers, Command Launch Computer (CLC) for High Speed Anti-Radiation Missile (HARM) and Advanced Anti-Radiation Guided Missile (AARGM, spare and repair parts, support and test equipment, publications and technical documentation, personnel training and training equipment, U.S. Government (USG) and contractor engineering, technical, and logistics support services, and other related elements of logistical and program support. The estimated cost is $1.7 billion.

Australia is an important ally in the Western Pacific. The strategic location of this political and economic power contributes significantly to ensuring peace and economic stability in the region. Australia's efforts in peacekeeping and humanitarian operations have made a significant impact to regional political and economic stability and have served U.S. national security interests. This proposed sale is consistent with those objectives and facilitates burden sharing with our allies.

The proposed sale will improve Australia's capability in current and future coalition efforts. Australia will use the enhanced capability as a deterrent to regional threats and to strengthen its homeland defense. Australia will have no difficulty absorbing this new capability into its armed forces.

The proposed sale of this equipment and support will not alter the basic military balance in the region.

The prime contractor will be The Boeing Corporation in St. Louis, Missouri. There are no known offset agreements proposed in connection with this potential sale.

Implementation of this proposed sale may require the assignment of additional U.S. Government or contractor representatives to Australia.

There will be no adverse impact on U.S. defense readiness as a result of this proposed sale.

Transmittal No. 12-27

Notice of Proposed Issuance of Letter of Offer Pursuant to Section 36(b)(1) of the Arms Export Control Act Annex—Item No. vii —(vii) Sensitivity of Technology

1. The EA-18G modification kit consists of the following sensitive components:

a. The ALQ-218(V)2 Radio Frequency Receiver system makes use of hard/software developed for the Precision Direction-Finding System (PDFS) and forms the receiver section of the electronic attack systems installed aboard the EA 18G and the EA-6B. The equipment is teamed with variants of the AN/ALQ-99 tactical jamming system and is designed to facilitate a narrowband jamming capability that is aimed at countering frequency agile threats. The hardware for each modified aircraft will include wingtip pods, interface units, pre-selectors, Weapon Replacement Assembly Weapon Replacement Assemblies (WRAs) and antennas.

b. The ALQ-227(V)1 Communication Countermeasures Set (also known as the RT-1919), including hardware for each modified aircraft is a digital receiver/exciter that makes use of the AN/ALQ-99 noise jamming system that transmits “complex” communications jamming waveforms over a “broad” frequency range.

c. The CP-2640/ALQ Electronic Attack Unit (EAU) provides the integration and management of all Radio Frequency (RF) and communication sensors within the EA-18G.

2. The AN/ALQ-99F(V) Tactical Jamming System pod is equipped with a hardback that supports fore and aft transmitters, a nose-mounted Ram Air Turbine (RAT), a centrally-mounted Universal Exciter Unit (UEU), a pod control unit, and two steerable high-gain transmission arrays. The UEU is central to the pod's function and is a digitally controlled signal generator that receives threat parameter data from the TJS computer and generates an appropriate response by modulating a radio frequency oscillator. This output is then amplified and emitted by the appropriate transmitter.

3. The CN-1717/A Interference Cancellation System (INCANS) is an aircraft-mounted system that provides secure voice communications with friendly forces while simultaneously jamming enemy communications. The main concern on INCANS is its compatibility with the AN/ALQ-99 tactical jamming system which will allow the EA-18G to conduct voice communications over ultra-high radio frequencies with friendly forces, while simultaneously jamming enemy communications.

4. The R-2674(C)/A Joint Tactical Terminal Receiver (JTTR) System and associated hardware provides eight receive channels that enable the aircraft to access near real-time threat, survivor and Blue Force Tracking data that will be transmitted to the pilot, thereby increasing the users' critical situational awareness.

5. The LAU-118 is a guided missile launcher that is reusable and completes the F/A-18 suspension and launching system for the AGM-88 High-Speed Anti-Radiation Missile (HARM) and AGM-88E Advanced Anti-Radiation Guided Missile (AARGM). The launcher consists of the launcher housing, forward and aft fairing assemblies, forward and aft launcher tracks, suspension lugs, insert plugs, and internal electrical components

6. The Command Launch Computer (CLC) for HARM and AARGM is an electronics subsystem installed on the airframe to interface with HARM/AARGM Missiles and the F/A-18E/F and EA-18G aircraft. The CLC receives target data from the missile and onboard avionics, processes the data for display to the aircrew to the appropriate display, determines target priority, and collects aircraft data for pre-launch hand-off to the HARM/AARG missiles. The CLC determines time coincidence between the HARM/AARGM missiles and the Radar Warning Receiver (RWR) directional data and pulse repetition intervals and formats. The identification data is processed by the CLC to perform target identification, prioritization, and display information. The CLC generates targeting commands to the HARM/AARGM missiles for appropriate target and provides Targeting and guidance information for the missiles to Target of Interest (TOI) on offensive attack missions

7. If a technologically advanced adversary were to obtain knowledge of the specific hardware and software elements, the information could be used to develop countermeasures that might reduce weapon system effectiveness or be used in the development of a system with similar or advanced capabilities.

[FR Doc. 2012-13293 Filed 5-31-12; 8:45 am]

BILLING CODE 5001-06-P